DEPARTMENT OF HOMELAND SECURITY

Federal Emergency Management Agency

[Docket ID: FEMA-2014-0006; OMB No. 1660-0011]

Agency Information Collection Activities: Submission for OMB Review; Comment Request; Debt Collection Financial Statement

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 7, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 646-3347, or email address FEMA-Information-Collections-Management@dhs.gov.

SUPPLEMENTARY INFORMATION:

Collection of Information

Title: Debt Collection Financial Statement.

Type of information collection: Revision of a currently approved information collection.

OMB Number: 1660-0011.

Form Titles and Numbers: FEMA Form 127-0-1, Debt Collection Financial Statement.

Abstract: FEMA may request debtors to provide personal financial information on FEMA Form 127-0-1 concerning their current financial position. With this information, FEMA evaluates whether to allow its debtors to pay their FEMA debts under installment repayment agreements and if so, under what terms. FEMA also uses this data to determine whether to compromise, suspend, or terminate collection efforts on respondent's debts. This data is also used to locate the debtor's assets if the debts are sent for judicial enforcement.

Affected Public: Individuals or households.

Estimated Number of Respondents: 2,000.

Estimated Total Annual Burden Hours: 1,500 hours.

Estimated Cost: The estimated annual cost to respondents for the hour burden is $50,610.00. There are no annual costs to respondents' operations and maintenance costs for technical services. There is no annual start-up or capital costs. On February 18, 2014, FEMA published a Notice for this information collection. 79 FR 9251. In that Notice, FEMA indicated that the cost to the Federal Government was $189,319.75. The cost of a U.S. postage stamp has increased, however, from $0.46 to $0.49, and as a result, FEMA adjusts the total cost to the Federal Government to $189,380.88 to reflect this change in the price of postage.

Dated: May 14, 2014.
Charlene D. Myrthil,
Director, Records Management Division, Mission Support Bureau, Federal Emergency Management Agency, Department of Homeland Security.

[FR Doc. 2014-13138 Filed 6-4-14; 8:45 am]

BILLING CODE 9111-19-P